DEPARTMENT OF ENERGY

Federal Energy Regulatory Commission

[Docket No. CP17-41-000]

Eagle LNG Partners Jacksonville, LLC; Notice of Availability of the Draft Environmental Impact Statement for the Proposed Jacksonville Project

The staff of the Federal Energy Regulatory Commission (FERC or Commission) has prepared a draft environmental impact statement (EIS) for the Jacksonville Project, proposed by Eagle LNG Partners Jacksonville, LLC (Eagle LNG) in the above-referenced docket. Eagle LNG requests authorization to construct and operate a liquefied natural gas (LNG) facility on the north bank of the St. Johns River in Jacksonville, Florida. Eagle LNG's Jacksonville Project would consist of an LNG terminal on about 81.1 acres of a 193.4-acre parcel of land and would produce a nominal capacity of about 1.0 million (metric) tonnes per annum (MTPA) of LNG. The LNG terminal would receive natural gas from a new 120-foot-long non-jurisdictional natural gas pipeline constructed by Peoples Gas' (a subsidiary of TECO Energy, Inc.), connected to its existing local gas distribution transmission pipeline, which is immediately adjacent to the proposed terminal site.

The draft EIS assesses the potential environmental effects of the construction and operation of the Jacksonville Project in accordance with the requirements of the National Environmental Policy Act (NEPA). The FERC staff concludes that approval of the Jacksonville Project would result in some limited adverse environmental impacts; however, these impacts would be reduced to less-than-significant levels with the implementation of Eagle LNG's proposed mitigation and the additional measures recommended in the draft EIS.

The U.S. Department of Energy, U.S. Coast Guard, U.S. Army Corps of Engineers, and U.S. Department of Transportation participated as cooperating agencies in the preparation of the EIS. Cooperating agencies have jurisdiction by law or special expertise with respect to resources potentially affected by the proposal and participate in the NEPA analysis. Although the cooperating agencies provided input to the conclusions and recommendations presented in the draft EIS, the agencies will present their own conclusions and recommendations in their respective Records of Decision or determinations for the project.

The draft EIS addresses the potential environmental effects of the construction and operation of the following project facilities:

• Three LNG trains, each with a nominal capacity of 0.33 MTPA of LNG for export, resulting in a total nominal capacity of 1.0 MTPA;

• one LNG storage tank with a net capacity of 45,000 m³;

• marine facilities with a concrete access trestle and loading platform, and two liquid loading arms capable of docking and mooring a range of LNG vessels with an LNG cargo capacity of up to 45,000 m³;

• LNG truck loading facilities with a dual bay capable of loading 260 to 520 LNG trucks per year;

• a boil-off gas compression system;

• on-site refrigerant storage;

• ground flare and cold vent systems; and

• utilities and support facilities (e.g., administration, control, and workshop buildings; roads and parking areas; power and communications; water, air, septic, and stormwater systems).

The Commission mailed a copy of the Notice of Availability to federal, state, and local government representatives and agencies; elected officials; environmental and public interest groups; Native American tribes; potentially affected landowners and other interested individuals and groups; and newspapers and libraries in the project area. The draft EIS is only available in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the “Docket Number” field, excluding the last three digits (i.e., CP17-41). Be sure you have selected an appropriate date range. For assistance, please contact FERC Online Support at FercOnlineSupport@ferc.gov or toll free at (866) 208-3676, or for TTY, contact (202) 502-8659.

Any person wishing to comment on the draft EIS may do so. Your comments should focus on draft EIS's disclosure and discussion of potential environmental effects, reasonable alternatives, and measures to avoid or lessen environmental impacts. To ensure consideration of your comments on the proposal in the final EIS, it is important that the Commission receive your comments on or before 5:00 p.m. Eastern Time on January 7, 2019.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP17-41-000) with your submission: Kimberly D. Bose, Secretary, Federal Energy Regulatory Commission, 888 First Street NE, Room 1A, Washington, DC 20426.

(4) In lieu of sending written or electronic comments, the Commission invites you to attend the public comment session its staff will conduct in the project area to receive comments on the draft EIS, scheduled as follows:

Date and time | Location
Wednesday, December 12, 2018 4:00-8:00 p.m. EST | Jacksonville Public Library (Main), 303 North Laura Street, Jacksonville, FL 32202, (904) 630-2665.

The primary goal of this comment session is to have you identify the specific environmental issues and concerns with the draft EIS. Individual verbal comments will be taken on a one-on-one basis with a court reporter. This format is designed to receive the maximum amount of verbal comments, in a convenient way during the timeframe allotted.

The scoping session is scheduled from 4:00 p.m. to 8:00 p.m. local time. You may arrive at any time after 4:00 p.m. There will not be a formal presentation by Commission staff when the session opens. If you wish to speak, the Commission staff will hand out numbers in the order of your arrival. Comments will be taken until the closing hour for the comment session. However, if no additional numbers have been handed out and all individuals who wish to provide comments have had an opportunity to do so, staff may conclude the session 30 minutes before the closing hour. Please see appendix 1 for additional information on the session format and conduct.¹

¹ The appendices referenced in this notice will not appear in the Federal Register. Copies of the appendices are available at www.ferc.gov using the link called “eLibrary” or from the Commission's Public Reference Room, 888 First Street NE, Washington, DC 20426, or call (202) 502-8371. For instructions on connecting to eLibrary, refer to page 2 of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 5 minutes may be implemented for each commenter.

It is important to note that verbal comments hold the same weight as written or electronically submitted comments. Although there will not be a formal presentation, Commission staff will be available throughout the comment session to answer your questions about the environmental review process.

Any person seeking to become a party to the proceeding must file a motion to intervene pursuant to Rule 214 of the Commission's Rules of Practice and Procedures (18 CFR part 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: November 16, 2018.
Kimberly D. Bose,
Secretary.

[FR Doc. 2018-25581 Filed 11-23-18; 8:45 am]

BILLING CODE 6717-01-P